ENVIRONMENTAL PROTECTION AGENCY

[EPA-HQ-OAR-2018-0209; FRL-9979-03-OEI]

Proposed Information Collection Request; Extension of Comment Period; Cross-State Air Pollution Rule and Texas SO2 Trading Programs (Renewal)

AGENCY: Environmental Protection Agency (EPA).

ACTION: Extension of comment period.

SUMMARY: The Environmental Protection Agency (EPA) issued a notice in the Federal Register of April 16, 2018, opening a 60-day comment period for an information collection request (ICR), Cross-State Air Pollution Rule and Texas SO2 Trading Programs (Renewal), that EPA is planning to submit to the Office of Management and Budget (OMB) for review and approval in accordance with the Paperwork Reduction Act (PRA). Although the notice published in the Federal Register on April 16, 2018, EPA did not make publicly available on https://www.regulations.gov the docket for this action until May 15, 2018. EPA is extending the comment period until July 14, 2018, to allow for the full 60-day comment period.

DATES: Comments must be received on or before July 14, 2018.

ADDRESSES: Submit your comments, identified by Docket ID No. EPA-HQ-OAR-2018-0209, online using https://www.regulations.gov (our preferred method), by email to a-and-r-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Karen VanSickle, Clean Air Markets Division, Office of Air and Radiation, (6204M), Environmental Protection Agency, 1200 Pennsylvania Ave. NW, Washington, DC 20460; telephone number: 202-343-9220; fax number: 202-343-2361; email address: vansickle.karen@epa.gov.

SUPPLEMENTARY INFORMATION: This document extends the public comment period established in the Federal Register document of April 16, 2018 (83 FR 16357) from June 15, 2018, to July 14, 2018. In that document, EPA opened a 60-day comment period for the proposed renewal of the ICR, Cross-State Air Pollution Rule and Texas SO2 Trading Programs (Renewal)” (EPA ICR No. 2391.05, OMB Control No. 2060-0667). The docket for this action was not made available on https://www.regulations.gov until May 15, 2018. As a result, EPA is extending the comment period for 29 days until July 14, 2018.

Courtney Kerwin,
Director, Regulatory Support Division.

[FR Doc. 2018-12770 Filed 6-13-18; 8:45 am]

BILLING CODE 6560-50-P